DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 121st Scientific and Statistical Committee (SSC), American Samoa Regional Ecosystem Advisory Committee (REAC), Fishing Industry Advisory Committee (FIAC), American Samoa Advisory Panel (AP) and its 164th Council meeting to take actions on fishery management issues in the Western Pacific Region. The Council will also convene meetings of the Pelagic and International Standing Committee, Program Planning and Research Standing Committee, and Executive and Budget Standing Committee.

DATES: The meetings will be held between October 13 and October 22, 2015. For specific times and agendas, see SUPPLEMENTARY INFORMATION.

ADDRESSES: The 121st SSC will be held at the Council office, 1164 Bishop Street, Suite 1400, Honolulu, HI 96813, phone: (808) 522-8220. The REAC, FIAC, American Samoa AP, Pelagic and International Standing Committee and 164th Council meetings will be held at the Rex Lee Auditorium, Department of Commerce, Pago Pago, American Samoa; phone: (684) 633-5155. The Program Planning and Research Standing Committee and Executive and Budget Standing Committee will be held at the Sadies by the Sea conference room in Pago Pago, American Samoa; phone: (684) 633-5981. The Fishers Forum will be held at Fagatogo Marina, Fagatogo, American Samoa.

FOR FURTHER INFORMATION CONTACT: Kitty M. Simonds, Executive Director, phone: (808) 522-8220.

SUPPLEMENTARY INFORMATION: The 121st SSC meeting will be held between 8:30 a.m. and 5 p.m. on October 13-14, 2015. The Council's REAC will be held between 8:30 a.m. and 1 p.m., FIAC between 2 p.m. and 5 p.m. and AP between 6 p.m. and 9 p.m. on October 19, 2015. The Council's Pelagic and International Standing Committee will be held between 9 a.m. and 12 noon, Program Planning and Research Standing Committee between 1 p.m. and 3 p.m., and Executive and Budget Standing Committee between 3 p.m. and 5 p.m. on October 20, 2015. The 164th Council meeting will be held between 8:30 a.m. and 5 p.m. on October 21-22, 2015. In addition, the Council will host a Fishers Forum on October 17, 2015, between 10 a.m. and 3 p.m.

In addition to the agenda items listed here, the SSC and Council will hear recommendations from Council advisory groups. Public comment periods will be provided throughout the agendas. The order in which agenda items are addressed may change. The meetings will run as late as necessary to complete scheduled business. Background documents will be available from, and written comments should be sent to, Mr. Edwin Ebisui, Chair, Western Pacific Fishery Management Council, 1164 Bishop Street, Suite 1400, Honolulu, HI 96813, phone: (808) 522-8220 or fax: (808) 522-8226.

Agenda for 121st SSC Meeting

8:30 a.m.-5 p.m., Tuesday, October 13, 2015

1. Introductions

2. Approval of Draft Agenda and Assignment of Rapporteurs

3. Status of the 119th & 120th SSC Meeting Recommendations

4. Report from the Pacific Islands Fisheries Science Center Director

5. Program Planning

A. Integrated Stock Assessment Model for Data Poor Stocks

B. Territorial Bottomfish P* Working Group Report

C. Specification of Acceptable Biological Catch for the Territorial Bottomfish Fishery for Fishing Years 2016 and 2017 (Action Item)

D. Atlantis Model for Near-Shore Ecosystems in Guam

E. Implementing an Assessment Prioritization Process

F. Center for Independent Experts Review Reports

1. Bycatch Estimation Model

2. Length-based Assessment Model

G. Public Comment

H. SSC Discussion and Recommendations

6. Pelagic Fisheries

A. Hawaii & American Samoa Longline Fisheries Reports

B. National Bycatch Report (NBR) Longline Bycatch Reports 2011-13

C. International Fisheries

1. International Scientific Committee (ISC) Report

2. Western and Central Pacific Fisheries Commission (WCPFC) Science Committee Report

a. South Pacific Albacore Stock Assessment and Economic Performance

3. WCPFC Northern Committee Report

4. Majuro Purse Seine Bigeye Management Workshop

5. U.S. Proposals for WCPFC 12th Plenary Session

6. U.S. Bigeye Quota in the Eastern Pacific Ocean

D. Public Comment

E. SSC Discussion and Recommendations

8:30 a.m.-5 p.m., Wednesday, October 14, 2015

Guest Speaker: Judy Amesbury: Who Wears the Beads?

7. Protected Species

A. American Samoa Longline Fishery Biological Opinion

B. Development of a Tier System for Application to Potential Biological Removals

C. Update on Leatherback Turtle Interactions in the Hawaii Deep-set Longline Fishery

D. Public Comment

F. SSC Discussion and Recommendations

8. Other Business

A. 122nd SSC Meeting

9. Summary of SSC Recommendations to the Council

Fishers Forum Day on American Samoa Fisheries

10 a.m.-3 p.m., Saturday, October 17, 2015

1. Fishing vessel tours

2. Fishing gear displays

3. Fisheries-related demonstrations

Agenda for the REAC

8:30 a.m.-1 p.m., Monday, October 19, 2015

1. Welcome Remarks

2. Introductions

3. Report on Proposed New Ecosystem Information Requirements in the American Samoa Fishery Ecosystem Plan

4. Report on Changes to the Archipelagic Ecosystem Annual/Stock Assessment and Fisheries Evaluation (SAFE) Report

5. Identification of Relevant Data Holdings and Data Sharing Arrangements with Regard to Archipelagic Ecosystem Annual/SAFE Report Modules

A. General Fishery Information and Marine Planning Data

B. Ecosystem Information

i. Biophysical Elements

ii. Socioeconomic Elements

iii. Protected Resources and Bycatch Elements

iv. Climate Elements

v. Habitat Elements

C. Data Integration

6. REAC Role in Annual/SAFE Report

7. Public Comment

8. Discussions and Recommendations

Agenda for FIAC

2 p.m.-5 p.m., Monday, October 19, 2015

1. Introduction and Welcome

2. Round Table Discussion on Fishing and Seafood Industry Issues

3. Insular Fisheries

a. Status of the American Samoa Bottomfish Fishery

b. Hawaii Standards for Receiving Bottomfish Imports

4. Pelagic/International Management Issues

a. South Pacific Albacore

b. Tri Marine Petition

5. Seafood/Market Issues

a. Marine Stewardship Council for American Samoa Longline Fishery

b. IUU Fishing and Seafood Traceability

c. Impacts from 2015 WCPFC/Inter-American Tropical Tuan Commission (IATTC) closures

d. Proposed Rule on Fish and Fish Product Import Provisions of the Marine Mammal Protection Act

6. Fishery Funding—Saltonstall-Kennedy(S-K) Solicitation

7. Other Issues

8. Public Comment

9. Discussion and Recommendations

Agenda for American Samoa AP

6 p.m.-9 p.m., Monday, October 19, 2015

1. Welcome and Introductions

2. Review and Approval of the Agenda

3. Issues to be Discussed at 164th Council Meeting

A. Upcoming Council Action Items

i. 2016 Territorial Bigeye Tuna Catch Limit Specifications

ii. Territorial Bottomfish Annual Catch Limits

B. American Samoa Fishery Ecosystem Plan (FEP) Community Activities

i. NOAA Pacific Islands Regional Office (PIRO) S-K & Marine Education and Training (MET) Grant Writing Workshops in American Samoa

ii. Super Alia & New Multipurpose Fishing Vessel Design Updates

4. American Samoa Archipelago FEP Issues

A. American Samoa FEP Review

i. Advisory Panel Education & Outreach Strategic Plan Framework

B. Subpanel Groups Community Fishery Issues

i. Island Fisheries Subpanel

1. Catch & Size Limit Development for Territorial Waters (0-3 miles)

2. Shark Legislation Conflict for Fishermen

ii. Pelagic Fisheries Subpanel

1. Tri Marine Petition to NMFS

2. Support for Longline Fishery

iii. Ecosystems and Habitat Subpanel

1. Green Sea Turtle Proposed Rule

iv. Indigenous Fishing Rights Subpanel

1. ASG Plans for Manu'a Alia Fishing Boat Repairs (S-K proposal)

C. Other Issues

5. Public Comment

6. Discussion and Recommendations

7. Other Business

Agenda for Pelagic and International Standing Committee

9 a.m.-12 noon, Tuesday, October 20, 2015

A. Specification of 2016 Bigeye Tuna Territorial Catch and Allocation Limits (Action Item)

B. Hawaii & American Samoa Longline Fisheries Reports

C. International Fisheries

a. WCPFC Science Committee

b. South Pacific Albacore Stock Assessment and Economic Performance

c. Report on Majuro Purse Seine Big Eye Workshop

d. Tri Marine Petition

e. U.S. Proposals for WCPFC 12

f. Tokelau Arrangement

D. Advisory Group Report and Recommendations

a. Advisory Panel

b. Fishing Industry Advisory Committee

c. Regional Ecosystem Advisory Committee

d. Scientific & Statistical Committee

E. Public Comment

F. Committee Discussion and Recommendations

Agenda for Program Planning and Research Standing Committee

1 p.m.-3 p.m., Tuesday, October 20, 2015

1. Annual Catch Limit (ACL) Specification for Territorial Bottomfish (Action Item)

a. P* Working Group Report

b. Social, Economic, Ecological and Management Uncertainty (SEEM) Working Group Report

c. Options for Territorial Bottomfish ACL for Fishing Year 2016 and 2017

2. Fishery Ecosystem Plan Modifications (Action Item)

3. Integrated Stock Assessment Model for Data Poor Stocks

4. Territory Science Initiative Project

5. Other Issues

6. Public Comment

7. Committee Discussion and Recommendations

Agenda for Executive and Budget Standing Committee

3 p.m.-5 p.m., Tuesday, October 20, 2015

1. Administrative Report

2. Financial Report

3. Standard Operating Policies and Procedures

4. Meetings and Workshops

5. Council Family Changes

6. Other Issues

7. Committee Discussion and Recommendations

Agenda for 164th Council Meeting

8:30 a.m.-5 p.m., Wednesday, October 21, 2015

1. Welcome and Introductions

2. Approval of the 164th Agenda

3. Approval of the 163rd Meeting Minutes

4. Executive Director's Report

5. Agency Reports

A. National Marine Fisheries Service

1. Pacific Islands Regional Office

a. Status of Pending Management Actions

2. Pacific Islands Fisheries Science Center

B. NOAA Office of General Counsel, Pacific Islands Section

C. U.S. State Department

D. Fish and Wildlife Service

E. Enforcement

1. U.S. Coast Guard

2. NOAA Office of Law Enforcement

3. NOAA Office of General Counsel, Enforcement Section

F. Public Comment

G. Council Discussion and Action

6. American Samoa Archipelago

A. Motu Lipoti

B. Fono Report

C. Enforcement Issues

D. Community Activities and Issues

1. Report on the Governor's Fisheries Task Force Initiatives

2. Fisheries Development

a. Update on Funding for Super Alia Vessels and Local Fishery Business Development Initiatives

3. Fisheries Disaster Relief Project

E. Education and Outreach Initiatives

F. Advisory Group Report and Recommendations

1. Advisory Panel

2. Fishing Industry Advisory Committee

3. Regional Ecosystem Advisory Committee

4. Scientific and Statistical Committee

G. Public Comment

H. Council Discussion and Action

7. Pelagic & International Fisheries

A. Specification of 2016 Bigeye Tuna Territorial Catch and Allocation Limits (Action Item)

B. Hawaii & American Samoa Longline Fisheries Reports

C. NBR Longline Bycatch Reports 2011-13

D. International Fisheries

1. WCPFC Science Committee

a. South Pacific Albacore Stock Assessment and Economic Performance

2. WCPFC Northern Committee

3. WCPFC Technical and Compliance Committee

4. Report on Majuro Purse Seine Big Eye Workshop

5. Tri Marine Petition

6. U.S. Proposals for WCPFC 12

7. Tokelau Arrangement

E. Advisory Group Report and Recommendations

1. Advisory Panel

2. Fishing Industry Advisory Committee

3. Regional Ecosystem Advisory Committee

4. Scientific and Statistical Committee

F. Standing Committee Recommendations

G. Public Hearing

H. Council Discussion and Action

8. Protected Species

A. American Samoa Longline Biological Opinion

B. Update on Leatherback Turtle Interaction in the Hawaii Deep-set Longline Fishery

C. Advisory Group Report and Recommendations

1. Advisory Panel

2. Fishing Industry Advisory Committee

3. Regional Ecosystem Advisory Committee

4. Scientific and Statistical Committee

C. Public Comment

D. Council Discussion and Action

9. Public Comment on Non-agenda Items

8:30 a.m.-5 p.m., Thursday, October 22, 2015

10. Program Planning and Research

A. ACL Specification for Territorial Bottomfish (Action Item)

1. P* Working Group Report

2. SEEM Working Group Report

3. Options for Territorial Bottomfish for Fishing Year 2016 and 2017

B. Integrated Stock Assessment Model for Data Poor Stocks

C. Territory Science Initiative Project Updates

D. Fishery Ecosystem Plan Modification (Action Item)

E. Regional, National and International Outreach and Education

F. Advisory Group Report and Recommendations

1. Advisory Panel

2. Fishing Industry Advisory Committee

3. Regional Ecosystem Advisory Committee

4. Scientific and Statistical Committee

G. Standing Committee Recommendations

H. Public Hearing

I. Council Discussion and Action

11. Hawaii Archipelago & Pacific Remote Island Areas (PRIA)

A. Moku Pepa

B. Legislative Report

C. Enforcement Issues

D. Education and Outreach Initiatives

E. Advisory Group Report and Recommendations

1. Advisory Panel

2. Fishing Industry Advisory Committee

3. Regional Ecosystem Advisory Committee

4. Scientific and Statistical Committee

F. Public Comment

G. Council Discussion and Action

12. Mariana Archipelago

A. Guam

1. Isla Informe

2. Legislative Report

3. Enforcement Issues

4. Community Activities and Issues

a. Report on Indigenous Fishing Rights Initiatives

b. Atlantis Integrated Ecosystem Model

c. Yigo Community Based Management Program (CBMP)

5. Education and Outreach Initiatives

B. Commonwealth of the Northern Mariana Islands

1. Arongol Falú

2. Legislative Report

3. Enforcement Issues

4. Community Activities and Issues

a. Report on Northern Islands CBMP meeting

5. Education and Outreach Initiatives

C. Advisory Group Report and Recommendations

1. Advisory Panel

2. Fishing Industry Advisory Committee

3. Regional Ecosystem Advisory Committee

4. Scientific & Statistical Committee

D. Public Comment

E. Council Discussion and Action

13. Administrative Matters

A. Financial Reports

B. Administrative Reports

C. Council Family Changes

D. Statement of Organization Practices and Procedures

E. Meetings and Workshops

F. Other Business

G. Standing Committee Recommendations

H. Public Comment

I. Council Discussion and Action

14. Election of Officers

15. Other Business

Non-emergency issues not contained in this agenda may come before the Council for discussion and formal Council action during its 163rd meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 21, 2015.
Tracey L. Thompson,
Acting Deputy Director, Office of Sustainable Fisheries, National Marine Fisheries Service.

[FR Doc. 2015-24255 Filed 9-23-15; 8:45 am]

BILLING CODE 3510-22-P